DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Education (BIE) is announcing that the Advisory Board for Exceptional Children will hold its next meeting in San Diego, California. The purpose of the meeting is to meet the mandates of the Individuals with Disabilities Education Act of 2004 (IDEA) on Indian children with disabilities.

DATES: The Advisory Board will meet on Wednesday, September 16, 2009, from 4 p.m. to 5 p.m. Pacific Time and on Thursday, September 17, 2009, from 12:30 p.m. to 1:30 p.m. Pacific Time.

ADDRESSES: The meetings will be held at the Bahia Resort Hotel, 998 West Mission Bay Drive, San Diego, California, 92109. Telephone: (858) 488-0551; Reservations: (858) 576-4229.

FOR FURTHER INFORMATION CONTACT: Dr. Jeffrey Hamley, Designated Federal Official, Bureau of Indian Education, (505) 563-5260; or Sue Bement, Education Specialist Bureau of Indian Education, (505) 563-5274.

SUPPLEMENTARY INFORMATION: The Advisory Board is meeting in conjunction with the Bureau of Indian Education Special Education Academy, which will take place at the Bahia Resort Hotel in San Diego, California, September 15-19, 2009. The Advisory Board was established to advise the Secretary of the Interior, through the Assistant Secretary—Indian Affairs, on the needs of Indian children with disabilities, as mandated by the Individuals with Disabilities Act of 2004 (Pub. L. 108-446). The meetings are open to the public.

The following items will be on the agenda:

• Advisory Board Committee Reports.

• Report from Gloria Yepa, Supervisory Education Specialist, Bureau of Indian Education, Division of Performance and Accountability.

• Public Comments (via conference call, September 17, 2009, meeting only*).

• Discussion of Board Annual Report due November 1, 2009.

• Next Advisory Board Meeting Date and Place.

*During the September 17, 2009, meeting, time has been set aside for public comment via conference call from 1-1:30 p.m. Pacific Time. The call-in information is: Conference Number 1-888-387-8686, Passcode 4274201.

Dated: August 6, 2009.
Paul Tsosie,
Acting Assistant Secretary—Indian Affairs.

[FR Doc. E9-19505 Filed 8-13-09; 8:45 am]

BILLING CODE 4310-6W-P